DEPARTMENT OF DEFENSE

Department of the Air Force

Industry Day Briefings—Information on the New Global Positioning System (GPS) L2 and L5 Civil Signals

AGENCY: Department of the Air Force, DoD.

ACTION: Notice, announcement of opportunity to attend.

SUMMARY: This notice announces Global Positioning System (GPS) L2/L5 Civil Signal Industry Day on May 2, 2001. The L2 briefing will be from 9 a.m. to 12:00 p.m., at which the GPS Joint Program Office (JPO) will provide information on the new civil signal being planned for the GPS L2 frequency (1227.60 MHz). Additional GPS L5 Civil Signal briefings will be presented from 1:30 p.m. to 4:30 p.m. at which the GPS JPO will provide additional information on the new civil signal being planned for the GPS L5 (1176.45 MHz) frequency. Information presented at this Industry Day may be important to those involved in the development, production or support of satellite navigation products and services for the civil and military markets.

The morning L2 agenda includes: Overview of GPS Modernization Program; Benefits of a new L2 Civil Signal; Technical Description of the Planned Design; Laboratory Implementation of the New L2 Civil Signal; Question and Answer Session. The afternoon L5 agenda includes: Interface Control Working Group (ICWG) Process and Procedures Description; Benefits and Technical Description of the new L5 Civil Signal; Laboratory Implementation of the L5 Signal; Question and Answer Session.

Both sessions will be held in Building A-1, Conference Room 1062 of the Aerospace Corporation offices, 2350 El Segundo Blvd., El Segundo, CA 90245. The Industry Day conference is unclassified and formal visit requests are not necessary for U.S. citizens, although picture identification is required. For Foreign Nationals traveling on a VISA, please provide advance notification of your attendance, including the government or industry you represent to: Veronique Benjamins (SAIC), Phone (310) 363-6515, Fax (310) 363-1581. To expedite check-in security procedures, all attendees should provide email notification to: Veronique.Benjamins@ LOSANGELES.AF.MIL. Please include the words, “L2/L5 Civil Signal Industry Day Attendee” in the subject line of your email. The A-1 conference room allows participation for about 200 attendees and seating will be on a first come basis. The Government will not pay for any costs associated with attending this briefing or for any information.

ADDRESSES: JPO Point of Contact: SMC/CZER, 2420 Vela Way, Suite 1467, El Segundo, CA 90245-4659, ATTN: First Lieutenant Reginald C. Victoria.

DATES: If you intend to participate in these meetings, please submit your notification not later than April 27, 2001.

FOR FURTHER INFORMATION CONTACT: Ms. Veronique Benjamins, (310) 363-6515, or Lieutenant Commander Richard Fontana, USCG, (310) 363-1703, GPS Deputy Program Manager, Department of Transportation.

SUPPLEMENTARY INFORMATION:

Background

The Global Positioning System employs a constellation of 24 satellites to provide continuously transmitted positioning/navigation signals for use with appropriately configured GPS user equipment. The GPS satellite vehicles transmit signals at the L2 and L5 (future) frequencies to allow GPS user equipment to perform its positioning and navigation functions. The civilian and military communities employ the Global Positioning System.

Janet A. Long,
Air Force Federal Register Liaison Officer.

[FR Doc. 01-10522 Filed 4-24-01; 3:25 pm]

BILLING CODE 5001-05-P